DEPARTMENT OF COMMERCE

National Oceanic and Atmospheric Administration

RIN 0648-XO96

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 1606 to Mr. Zachary Larson in Crescent City, California.

ADDRESSES: The application, permit, and related documents are available for review by appointment at: Protected Resources Division, NMFS, 1655 Heindon Road, Arcata, CA 95521 (ph: 707-825-5185, fax: 707-825-4840, e-mail at: diane.ashton@noaa.gov

FOR FURTHER INFORMATION CONTACT: Diane Ashton at 707-825-5185, or e-mail: diane.ashton@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch).

Permit Issued

A notice of the receipt of an application for a scientific research permit (1606) was published in the Federal Register on March 28, 2007 (72 FR 14526). Permit 1606 was issued to Mr. Zachary Larson on March 27, 2009.

Permit 1606 authorizes Mr. Zachary Larson to capture (by seining, baited minnow trap, fence trap, pipe trap, and infrequent electrofishing), measure, mark, and release juvenile Southern Oregon/Northern California Coast coho salmon.

Permit 1606 authorizes unintentional lethal take of juvenile Southern Oregon/Northern California Coast coho salmon, not to exceed 1.0 percent of fish captured.

Permit 1606 is for research to be conducted in the Smith River estuary, and Cedar Creek, a ributary to the Smith River, Del Norte County, California.

The purpose of the research is to address information needs identified by NMFS to monitor juvenile salmonid populations in the Smith River. Permit 1606 expires on December 31, 2014.

Dated: April 24, 2009.
Therese Conant,
Acting Chief, Endangered Species Division, Office of Protected Resources, National Marine Fisheries Service.

[FR Doc. E9-10055 Filed 4-30-09; 8:45 am]

BILLING CODE 3510-22-S